CONSUMER PRODUCT SAFETY COMMISSION

[Docket No. CPSC-2010-0087]

Petition Requesting Regulations Restricting Cadmium in Children's Products

AGENCY: Consumer Product Safety Commission.

ACTION: Notice.

SUMMARY: The Consumer Product Safety Commission (“Commission” or “CPSC”) has received a petition requesting standards restricting cadmium in children's products, especially toy metal jewelry. The Commission invites written comments concerning the petition.

DATES: The Office of the Secretary must receive comments on the petition by October 18, 2010.

ADDRESSES: You may submit comments, identified by Docket No. CPSC-2010-0087, by any of the following methods:

Submit electronic comments in the following way:

Federal eRulemaking Portal: http://www.regulations.gov. Follow the instructions for submitting comments. To ensure timely processing of comments, the Commission is no longer accepting comments submitted by electronic mail (e-mail) except through http://www.regulations.gov.

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Rocky Hammond, Office of the Secretary, Consumer Product Safety Commission, 4330 East West Highway, Bethesda, Maryland 20814; telephone (301) 504-6833, e-mail rhammond@cpsc.gov.

SUPPLEMENTARY INFORMATION: The Empire State Consumer Project, Sierra Club, Center for Environmental Health, and Rochesterians Against the Misuse of Pesticides (“petitioners”) submitted a petition stating that the Commission should issue regulations to ban cadmium in all toy jewelry under the Federal Hazardous Substances Act (“FHSA”), 15 U.S.C. 1261 et seq. Specifically, petitioners request that the Commission adopt regulations declaring that any toy metal jewelry containing more than trace amounts of cadmium by weight which could be ingested by children be declared a banned hazardous substance. If the Commission finds that it lacks sufficient information to determine the appropriate level of cadmium in products, petitioners request that the Commission, as an interim measure, adopt the maximum levels established for lead. In addition, petitioners request a test method based on total cadmium, which simulates a child chewing the jewelry before swallowing by cutting the metal jewelry in half, and evaluating the extractability of cadmium from children's metal jewelry based on a 24-hour acid extraction period. Petitioners also assert that if the CPSC has insufficient information regarding cadmium, it should obtain additional information under the Interagency Testing Commission (“ITC”) through the Toxic Substances Control Act (“TSCA”) administered by the Environmental Protection Agency (“EPA”) to include metal jewelry in the scope of reporting under section 8(d) of the TSCA and require importers and processers to test toy metal jewelry for cadmium.

Interested parties may obtain a copy of the petition by writing or calling the Office of the Secretary, Consumer Product Safety Commission, 4330 East West Highway, Bethesda, MD 20814; telephone (301) 504-6833. The petition is also available at http://www.regulations.gov under Docket No. CPSC-2010-0087, Supporting and Related Materials.

Dated: August 13, 2010.
Todd A. Stevenson,
Secretary, Consumer Product Safety Commission.

[FR Doc. 2010-20599 Filed 8-18-10; 8:45 am]

BILLING CODE 6355-01-P